DEPARTMENT OF HEALTH AND HUMAN SERVICES

Health Resources and Services Administration

Advisory Committee on Training in Primary Care Medicine and Dentistry

AGENCY: Health Resources and Service Administration (HRSA), Department of Health and Human Services.

ACTION: Notice of charter amendment.

SUMMARY: The Department of Health and Human Services is hereby giving notice that the Advisory Committee on Training in Primary Care Medicine and Dentistry (ACTPCMD) has been amended. The effective date of the renewed charter is May 31, 2017.

FOR FURTHER INFORMATION CONTACT: Kennita R. Carter, M.D., Designated Federal Official, Division of Medicine and Dentistry, Bureau of Health Workforce, HRSA, in one of three ways: (1) Send a request to the following address: Kennita R. Carter, M.D., Designated Federal Official, Division of Medicine and Dentistry, HRSA, 5600 Fishers Lane, 15N-116, Rockville, Maryland 20857; (2) call 301-945-3505; or (3) send an email to KCarter@hrsa.gov.

SUPPLEMENTARY INFORMATION: The Committee provides advice and recommendations on policy and program development to the Secretary of the Department of Health and Human Services (Secretary) concerning the medicine and dentistry activities under section 747 of the Public Health Services (PHS) Act, as it existed upon the enactment of Section 749 of the PHS Act in 1998. The Committee is responsible for preparing and submitting an annual report to the Secretary and Congress describing the activities of the Committee, including findings and recommendations made by the Committee.

Amendment of the ACTPCMD charter clarifies the authorization and duties of the Committee regarding medicine and dentistry as it operates and conducts its business.

A copy of the ACTPCMD charter is available on the ACTPCMD Web site at https://www.hrsa.gov/advisorycommittees/bhpradvisory/actpcmd/index.html. A copy of the charter is also available on the Federal Advisory Committee Act (FACA) database that is maintained by the Committee Management Secretariat under the General Services Administration. The Web site for the FACA database is http://www.facadatabase.gov/.

Jason E. Bennett,
Director, Division of the Executive Secretariat.

[FR Doc. 2017-14648 Filed 7-12-17; 8:45 am]

BILLING CODE 4165-15-P